COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds services to the Procurement List that will be provided by nonprofit agencies employing persons who are blind or have other severe disabilities, and deletes products and a service from the Procurement List previously furnished by such agencies.

DATES: Effective Date: 3/21/2011.

ADDRESSES: Committee for Purchase From People Who Are Blind or Severely Disabled, Jefferson Plaza 2, Suite 10800, 1421 Jefferson Davis Highway, Arlington, Virginia 22202-3259.

FOR FURTHER INFORMATION CONTACT: Patricia Briscoe, Telephone: (703) 603-7740, Fax: (703) 603-0655, or e-mail CMTEFedReg@AbilityOne.gov.

SUPPLEMENTARY INFORMATION:

Additions

On 12/17/2010 (75 FR 78977-78978) and 12/27/2010 (75 FR 81235-81236), the Committee for Purchase From People Who Are Blind or Severely Disabled published notices of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will provide the services to the Government.

2. The action will result in authorizing small entities to provide the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Warehouse/Receiving Service, Customs and Border Protection, 1 Puntilla Street, San Juan, PR.

NPA: The Corporate Source, Inc., New York, NY.

Contracting Activity: Department of Homeland Security, Bureau of Customs and Border Protection, National Acquisition Center, Indianapolis, IN.

Service Type/Location: Custodial Service, USDA, APHIS, PPQ, Honolulu International Airport, 300 Rodgers Blvd, Honolulu, HI.

NPA: Opportunities for the Retarded, Inc., Wahiawa, HI.

Contracting Activity: Dept of Agriculture, Animal and Plant Health Inspection Service, Minneapolis, MN.

Deletions

On 12/17/2010 (75 FR 78977-78978), the Committee for Purchase From People Who Are Blind or Severely Disabled published notice of proposed deletions from the Procurement List.

After consideration of the relevant matter presented, the Committee has determined that the products and service listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and service to the Government.

3. There are no known regulatory alternatives which would accomplish the objectives of the Javits-Wagner-O'Day Act (41 U.S.C. 46-48c) in connection with the products and service deleted from the Procurement List.

End of Certification

Accordingly, the following products and service are deleted from the Procurement List:

Products

NSN: 7510-01-555-6167—Inkjet printer cartridge.

NSN: 7510-01-555-6168—Inkjet printer cartridge.

NSN: 7510-01-555-6169—Inkjet printer cartridge.

NSN: 7510-01-555-6170—compatible with Epson Part No. T018201. Tri-color.

NSN: 7510-01-555-6171—Inkjet printer cartridge.

NSN: 7510-01-555-6173—Inkjet printer cartridge.

NSN: 7510-01-555-7720—Inkjet printer cartridge.

NSN: 7510-01-555-7721—Inkjet printer cartridge.

NSN: 7510-01-555-7722—Inkjet printer cartridge.

NSN: 7510-01-555-7723—Inkjet printer cartridge.

NSN: 7510-01-555-8067—Inkjet printer cartridge.

NPA: Alabama Industries for the Blind, Talladega, AL.

Contracting Activity: General Services Administration, New York, NY.

NSN: 7045-01-483-9279—3-1/2″ Drive Cleaning Kit.

NPA: Wiscraft Inc.—Wisconsin Enterprises for the Blind, Milwaukee, WI.

Contracting Activity: General Services Administration, New York, NY.

Service

Service Type/Location: Eyewear Prescription Service, Department of Health and Human Services, Phoenix Indian Medical Center, 4212 N. 16th Street, Phoenix, AZ.

NPA: Winston-Salem Industries for the Blind, Inc., Winston-Salem, NC.

Contracting Activity: Department of Health and Human Services, Washington, DC.

Patricia Briscoe,
Deputy Director, Business Operations.

[FR Doc. 2011-3687 Filed 2-17-11; 8:45 am]

BILLING CODE 6353-01-P